COMMITTEE FOR PURCHASE FROM PEOPLE WHO ARE BLIND OR SEVERELY DISABLED

Procurement List; Proposed Additions

AGENCY: Committee for Purchase From People Who Are Blind or Severely Disabled.

ACTION: Proposed Additions to the Procurement List.

SUMMARY: The Committee is proposing to add to the Procurement List products and services to be furnished by nonprofit agencies employing persons who are blind or have other severe disabilities.

DATES: Comments Must Be Received on or Before: 7/13/2009.

ADDRESSES: Committee for Purchase From People Who Are Blind or Severely Disabled, Jefferson Plaza 2, Suite 10800, 1421 Jefferson Davis Highway, Arlington, Virginia, 22202-3259. For Further Information or To Submit Comments Contact: Lou Bartalot, Telephone: (703) 603-7740, Fax: (703) 603-0655, or e-mail CMTEFedReg@AbilityOne.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

NSN: 7530-00-NIB-0878—Folder, File;

NSN: 7530-00-NIB-0879—Folder, File;

NSN: 7530-00-NIB-0889—Folder, File;

NPA: Association for Vision Rehabilitation and Employment, Inc., Binghamton, NY;

Contracting Activity: Federal Acquisition Service, GSA/FSS OFC SUP CTR—Paper Products, New York, NY.

Coverage: A-list for the total government requirement as aggregated by the General Services Administration.

NSN: 7530-00-NIB-0840—Label, Pressure Sensitive Adhesive;

NSN: 7530-00-NIB-0894—Label, Pressure Sensitive Adhesive;

NSN: 7530-00-NIB-0897—Label, Pressure Sensitive Adhesive.

Coverage: B-list for the Broad government requirement as aggregated by General Services Administration.

NSN: 7530-00-NIB-0841—Label, Pressure Sensitive Adhesive;

NSN: 7530-00-NIB-0898—Label, Pressure Sensitive Adhesive;

NSN: 7530-00-NIB-0896—Label, Pressure Sensitive Adhesive;

NSN: 7530-00-NIB-0892—Label, Pressure Sensitive Adhesive;

NSN: 7530-00-NIB-0893—Label, Pressure Sensitive Adhesive;

NSN: 7530-00-NIB-0895—Label, Pressure Sensitive Adhesive;

NSN: 7530-00-NIB-0899—Label, Pressure Sensitive Adhesive;

NSN: 7530-00-NIB-0900—Label, Pressure Sensitive Adhesive.

NPA: North Central Sight Services, Inc., Williamsport, PA.

Contracting Activity: Federal Acquisition Service, GSA/FSS OFC SUP CTR—Paper Products, New York, NY.

Coverage: A-list for the total government requirement as aggregated by the General Services Administration.

NSN: 7510-00-NIB-0862—Tape, Pressure Sensitive .75X1000 6 rolls per pack;

NSN: 7510-00-NIB-0863—Tape, Pressure Sensitive .75X1000 6 rolls per pack;

NSN: 7510-00-NIB-0864—Tape, Pressure Sensitive .75X1000 10 rolls per pack.

NPA: Alphapointe Association for the Blind, Kansas City, MO.

Contracting Activity: Federal Acquisition Service, GSA/FSS OFC SUP CTR—Paper Products, New York, NY.

Coverage: A-list for the total government requirement as aggregated by the General Services Administration.

NSN: 7520-00-NIB-2016—Highlighter, Biodegradable.

NPA: West Texas Lighthouse for the Blind, San Angelo, TX.

Contracting Activity: Federal Acquisition Service, GSA/FSS OFC SUP CTR—Paper Products, New York, NY.

Coverage: A-list for the total government requirement as aggregated by the General Services Administration.

NSN: 3990-00-NSH-0075—Pallet, Demo, 24″ × 48″.

NPA: Bona Vista Programs, Inc., Kokomo, IN.

Contracting Activity: Dept Of The Army, SR W39Z STK REC ACCT-CRANE AAP.

Coverage: C-List for the total requirement of Dept Of The Army, Crane IN.

NSN: 7220-00-NSH-0007—Mat, Floor;

NSN: 7220-00-NSH-0010—Mat, Floor;

NSN: 7220-00-NSH-0009—Mat, Floor.

NPA: Northeastern Michigan Rehabilitation and Opportunity Center (NEMROC), Alpena, MI.

Contracting Activity: Federal Acquisition Service, GSA/FAS Southwest Supply Center (QSDAC), Fort Worth, TX.

Coverage: B-list for the broad government requirement as aggregated by General Services Administration.

NSN: MR 520—3 Pack Holiday Soy Candle.

NPA: Industries for the Blind, Inc., West Allis, WI.

Contracting Activity: Military Resale-Defense Commissary Agency.

Coverage: C-List for the total requirement of Defense Commissary Agency.

NSN: MR 300—Camelbak Thermos Shippers;

NSN: MR 832—Tomato Saver Shippers.

NPA: Winston-Salem Industries for the Blind, Winston-Salem, NC.

Contracting Activity: Military Resale-Defense Commissary Agency.

Coverage: C-List for the total requirement of Defense Commissary Agency.

Services

Service Type/Location

Custodial Services: U.S. Capitol Building, Capitol Visitor Center, 2nd and D Street, SW., Washington DC.

NPA: Fedcap Rehabilitation Services, Inc., New York, NY.

Contracting Activity: Architect of the Capitol, Washington, DC.

Service Type/Location:

Grounds Maintenance Service:

Schofield Barracks, Schofield, HI;

Helemano Military Reservation, Wahiawa, HI;

Tripler Army Medical Center, Tripler AMC, HI;

Wheeler Army Air Field, Schofield, HI;

Fort Shafter, HI.

NPA: Lanakila Rehabilitation Center, Honolulu, HI.

Contracting Activity: Dept of the Army, Ft Shafter, HI.

Service Type/Location

Facility Management:

Schofield Barracks, Schofield, HI;

Helemano Military Reservation, Wahiawa, HI;

Tripler Army Medical Center, Tripler AMC, HI;

Wheeler Army Air Field, Schofield, HI;

Fort Shafter, HI.

NPA: Goodwill Contract Services of Hawaii, Inc., Honolulu, HI.

Contracting Activity: Dept of the Army, Ft Shafter, HI.

Lou Bartalot,
Director, Compliance.

[FR Doc. E9-13885 Filed 6-12-09; 8:45 am]

BILLING CODE 6353-01-P